DEPARTMENT OF TRANSPORTATION

Federal Transit Administration

Preparation of Environmental Impact Statement for the Tucson Urban Corridor in Tucson, AZ

AGENCY: Federal Transit Administration, DOT.

ACTION: Notice of intent to prepare an environmental impact statement (EIS).

SUMMARY: The Federal Transit Administration (FTA) and the City of Tucson, Department of Transportation (TDOT), intend to prepare an Alternatives Analysis (AA) and an Environmental Impact Statement (EIS) in accordance with the National Environmental Policy Act (NEPA) on a proposal by the City of Tucson to provide additional transit service to the urban core of the City of Tucson. The AA/EIS will consider the following alternatives: (1) A No-Build Alternative, consisting of improvements contained in the Pima Association of Governments (PAG) 2025 Regional Transportation Plan (RTP); (2) Transportation System Management Alternative (TSM), consisting of all reasonable cost-effective transit service improvements within the urban core short of a major investment in a New Starts project; (3) Modern Streetcar in mixed traffic; and (4) Heritage Trolley in mixed traffic. The type, location, and need for ancillary facilities, such as maintenance facilities, will also be considered for each alternative. In addition, alternatives that are identified from the scoping process will be evaluated in the AA. Scoping will be accomplished through correspondence and discussions with interested persons; organizations; and federal, state, and local agencies; and through public and agency meetings. Depending on the outcome of the scoping process and the analysis of a wide range of transit alternatives in the Draft EIS (DEIS), a Locally Preferred Alternative (LPA) will be selected and evaluated in the Final EIS (FEIS). The FEIS will evaluate the potential impacts of the selected investment strategy (the Build Alternative) and a No-Build Alternative.

DATES: Comment Due Date: Written comments on the scope of alternatives and impacts to be considered in the AA/EIS must be received no later than March 28, 2005, and must be sent to the City of Tucson at the address indicated below.

Scoping Meeting Date: A public scoping meeting will be held from 4:30 p.m. to 6:30 p.m. on Wednesday, February 26, 2005 at the Historic Depot, 400 N. Toole Ave. Oral and written comments may be given at the scoping meeting; a stenographer will record oral comments. Persons with disabilities should contact Joan Beckim (see ADDRESSES section below) 72 hours prior to the scoping meeting for special arrangements.

ADDRESSES: Written comments should be sent to Ms. Shellie Ginn, Tucson Urban Corridor Study Project Manager, City of Tucson, Department of Transportation, 201 N. Stone Avenue, Tucson, Arizona 85701. Email: shellie.ginn@tucsonaz.gov. Phone: (520) 791-4372.

To be added to the mailing list, contact Ms. Shellie Ginn at the address listed above. Please specify the mailing list of the Tucson Urban Corridor Study Alternatives Analysis/Draft Environmental Impact Statement (AA/DEIS). Persons with special needs such as sign language interpretation should contact Joan Beckim, Public Involvement Coordinator, City of Tucson, 201 N. Stone Avenue, Tucson, Arizona 85701. Email: joan@kaneenpr.com. Phone (520) 885-9009. The dates and addresses of the scoping meetings are given in the DATES section above. All locations are accessible to people with disabilities.

FOR FURTHER INFORMATION CONTACT: To request a scoping information packet, contact Ms. Shellie Ginn, Tucson Urban Corridor Study Project Manager, City of Tucson, Department of Transportation, 201 N. Stone Avenue, Tucson, Arizona 85701. E-mail shellie.ginn@tucsonaz.gov. Phone: (520) 791-4372. The Federal agency contact is Mr. Hymie Luden, Office of Planning and Program Development, FTA, 201 Mission Street, Room 2210, San Francisco, CA 95105. Phone: (415) 744-2732.

SUPPLEMENTARY INFORMATION:

I. Description of Study Area and Scope

The Federal Transit Administration (FTA), as joint lead agency with the City of Tucson, will prepare an AA/EIS on a proposal to improve transit service in an approximately five-mile long corridor in central Tucson, Arizona. The study area for the Tucson Urban Corridor Study is bounded by 22nd Street to the south; Campbell Avenue to the east; Grant Road to the north; and Grande Avenue to the west. Most of the study area is densely developed with a mixture of urban land uses and includes the University of Arizona main and medical campuses, Main Gate retail area, Fourth Avenue retail area, downtown Tucson and the emerging Rio Nuevo area. Although not a part of the formal AA/EIS process for the corridor study, results and recommendations will be coordinated with the Pima Association of Government's effort to prepare a multi-modal comprehensive transportation plan identifying opportunities for future transportation connections throughout the Tucson metropolitan area. The City of Tucson will perform conceptual engineering for transit alternatives within the Tucson Urban Corridor for the AA/DEIS that satisfies NEPA requirements. In addition, a financial plan will be developed that examines alternative funding sources.

II. Purpose and Need

The Tucson Urban Corridor area is a major employment and activity center. The study corridor continues to experience significant growth in population and jobs. The city's largest activity center, the University of Arizona, is included in the study area and attracts over 50,000 trips daily and whose master plan includes significant expansion while holding parking to a constant 2004 level. The University is a land locked urban campus whose primary mode of access in the future will need to be transit. Along with this growth, traffic congestion and capacity deficiencies are expected to increase. Roadway capacity options would be difficult given the urban nature of the area and the magnitude of historic structures and neighborhoods in the study area. Inadequate transit service has hampered access to this area and to other study area destinations. A major transit investment is recognized as a feasible alternative to providing additional capacity within this area.

The project is included in the PAG 2025 RTP as an unfunded project. Funding would be considered as part of a proposed 2006 RTP financing proposal.

III. Alternatives

Alternatives have been considered to address transportation issues in the study corridor, connecting major activity centers in the central core, including downtown Tucson, the Rio Nuevo Master Plan area, the 4th Avenue/Main Gate retail corridors, the University of Arizona, and the Arizona Health Sciences Center (AHSC).

The Tucson Urban Corridor Study will be consistent with Federal Transit Administration (FTA), Alternatives Analysis and Section 5309 New Start Program requirements for determining future federal funding in recommended programs and be consistent with the National Environmental Policy Act (NEPA). The alternatives being considered will analyze mobility needs and identify and compare the costs, benefits, and impacts of a range of transit alignment and technology alternatives. At a minimum, the following alternatives will be considered:

■ No-Build.

■ Transportation System Management (TSM).

■ Historic Trolley.

■ Modern Streetcar.

Specific alignment alternatives include, but are not limited to: (1) 2nd Street through the University of Arizona, University Boulevard, Fourth Avenue, Congress and Pennington streets in the downtown area, and Church Avenue to Granada to serve the emerging Rio Nuevo area. These alternatives will be developed further during the preparation of the AA/DEIS. Additional reasonable Build Alternatives suggested during the scoping process, including those involving other modes, may be considered.

IV. Probable Effects

The purpose of the EIS is to fully disclose the environmental consequences of building and operating a major capital investment in the Tucson Urban Corridor in advance of any decisions to commit substantial financial or other resources towards its implementation. The EIS will explore the extent to which study alternatives and alignment options result in environmental impacts and will discuss actions to reduce or eliminate such impacts.

Environmental issues to be examined in the EIS include: Potential changes to the physical environment (natural resources, air quality, noise, water quality, geology, visual); changes in the social environment (land use, development, business and neighborhood disruptions); changes in traffic bicycle, and pedestrian circulation; changes in transit service and patronage; associated changes in traffic congestion; and impacts on parklands and historic sites. Impacts will be identified both for the construction period and for the long-term operation of the alternatives. The proposed evaluation criteria include transportation, social, economic, and financial measures, as required by current federal (NEPA) environmental laws and the implementing regulations of the Council on Environmental Quality and of FTA.

To ensure that the full range of issues related to this proposed action will be addressed and all significant issues identified, comments and suggestions are invited from all interested parties. Comments or questions concerning this proposed action and the EIS should be directed to the City of Tucson, Department of Transportation, Manager as noted in the ADDRESSES section above.

V. FTA Procedures

To streamline the NEPA process and to avoid duplication of effort, the agencies involved in the scoping process will consider the results of any previous planning studies or financial feasibility studies prepared in support of a decision by the Pima Association of Governments (PAG) to include a particular alternative in the RTP for metropolitan Tucson. Prior transportation planning studies may be pertinent to establishing the purpose and need for the proposed action and the range of alternatives to be evaluated in detail in the AA/EIS. Depending on the outcome of the scoping process and the analysis of a wide range of transit alternatives, a Locally Preferred Alternative (LPA) will be selected and evaluated in the Draft EIS. The Draft EIS will be prepared simultaneously with conceptual engineering for the alternatives, including station and alignment options. The Draft EIS process will address the potential use of federal funds for the proposed action, as well as assess the social, economic, and environmental impacts of the station and alignment alternatives. Station designs and any alignment options will be refined to minimize and mitigate any adverse impacts.

After publication, the Draft EIS will be available for public and agency review and comment, and a public hearing will be held. Based on the Draft EIS and comments received, the LPA may be refined, and the City of Tucson will further assess the LPA in the Final EIS and will apply for FTA approval to initiate Preliminary Engineering of the LPA.

Issued on: December 15, 2004.
Leslie T. Rogers,
Region IX Administrator.

[FR Doc. 04-27899 Filed 12-20-04; 8:45 am]

BILLING CODE 4910-57-M